Memorandum of May 26, 2006

Assignment of Certain Functions Related to the Use of Cooperative Threat Reduction Funds for States Outside the Former Soviet Union

Memorandum for the Secretary of State[,] the Secretary of Defense[,] the Secretary of Energy[, and] the Director of National Intelligence

By the authority vested in me as President by the Constitution and laws of the United States, including section 301 of title 3, United States Code, I hereby assign to the Secretary of State the functions of the President under:

(1) subsection 1203(d) of the Cooperative Threat Reduction Act of 1993 (22 U.S.C. 5952(d)), as it relates to section 1308(e) of the National Defense Authorization Act for Fiscal Year 1994 (22 U.S.C. 5963);

(2) subsections 1306(a) and (b) of the National Defense Authorization Act for Fiscal Year 2003 (Public Law 107-314), as amended (22 U.S.C. 5952 note), as they relate to section 1308(e); and

(3) section 1304 of the National Defense Authorization Act for Fiscal Year 2006 (Public Law 109-163).

The Secretary of State shall consult the Secretary of Defense prior to making a determination specified in section 1308(a)(2).

The Secretary of State is authorized and directed to publish this memorandum in the Federal Register.

B

THE WHITE HOUSE,

Washington, May 26, 2006.

[FR Doc. 06-5715

Filed 6-26-06; 8:45 am]

Billing code 4710-10-P